DEPARTMENT OF ENERGY

Federal Energy Regulatory Commission

[Docket No. CP20-15-000]

Puget Sound Energy, Inc.; Notice of Schedule for Environmental Review of the Jackson Prarie Storage Project

On November 15, 2019, Puget Sound Energy, Inc. (Puget Sound) filed an application in Docket No. CP20-15-000 requesting a Certificate of Public Convenience and Necessity pursuant to Section 7(c) of the Natural Gas Act to construct and operate natural gas facilities in Lewis County, Washington. The proposed project is known as the Jackson Prairie Storage Project (Project) and would allow Puget Sound to more efficiently manage its current operations within the Jackson Prairie Storage Facility and would not impact service to its customers.

On December 2, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project. Any substantive comments received on this Project will be addressed in the EA.

Schedule for Environmental Review

Issuance of EA—March 13, 2020

90-day Federal Authorization Decision Deadline—June 11, 2020

If a schedule change becomes necessary, additional notice will be provided so that the relevant agencies are kept informed of the Project's progress.

Project Description

Puget Sound proposes to recomplete its Well SU-50 downhole from Zone 2 to Zone 1 at its Jackson Prairie Storage Facility in Lewis County, Washington. No other Project facilities are proposed. Puget Sound states the Project would increase operational efficiency and provide a backup gas recycle well when maintenance is required on its Well SU-63. Puget Sound states the proposed modification would take 24 months to complete from the start of construction.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-15), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 16, 2020.
Nathaniel J. Davis, Sr.,
Deputy Secretary.

[FR Doc. 2020-01103 Filed 1-22-20; 8:45 am]

BILLING CODE 6717-01-P